POSTAL SERVICE

Sunshine Act Meeting; Temporary Emergency Committee of the Board of Governors

DATES AND TIMES: Tuesday, June 20, 2017, at 9:00 a.m.

PLACE: Washington, DC

STATUS: Closed.

MATTERS TO BE CONSIDERED:

Tuesday, June 20, 2017, at 9:00 a.m.

1. Strategic Issues.

2. Financial Matters.

3. Personnel Matters and Compensation Issues.

4. Executive Session—Discussion of prior agenda items and Temporary Emergency Committee governance.

GENERAL COUNSEL CERTIFICATION: The General Counsel of the United States Postal Service has certified that the meeting may be closed under the Government in the Sunshine Act.

CONTACT PERSON FOR MORE INFORMATION: Julie S. Moore, Secretary of the Board, U.S. Postal Service, 475 L'Enfant Plaza SW., Washington, DC 20260-1000. Telephone: (202) 268-4800.

Julie S. Moore,
Secretary.

[FR Doc. 2017-12033 Filed 6-6-17; 4:15 pm]

BILLING CODE 7710-12-P